DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: NMFS Alaska Region Vessel Monitoring System (VMS) Program.

Form Number(s): None.

OMB Approval Number: 0648-0445.

Type of Request: Regular submission.

Burden Hours: 23,838.

Number of Respondents: 1,854.

Average Hours per Response: VMS transmission, 5 seconds; VMS installation, 6 hours; VMS maintenance, 4 hours annually; one-time VMS check-in report, 12 minutes; notification of VMS malfunction, 2 minutes.

Needs and Uses: The National Marine Fisheries Service (NMFS) Alaska Region requires use of the VMS when fishing under certain conditions in the following fisheries: Atka Mackerel, Pollock, Pacific Cod, Bering Sea and Aleutian Islands (BSAI) Management Area Crab, essential fish habitat (EFH) and habitat areas of particular concern (HAPC) in the Aleutian Islands and Gulf of Alaska. The Vessel Monitoring System (VMS) transmitter automatically determines the vessel's position several times per hour using a Global Positioning System satellite. A communications service provider receives the transmission and relays it to NMFS, Office for Enforcement. The VMS transmitters are designed to be tamper-resistant and automatic. In most cases, the vessel owner is unaware of exactly when the unit is transmitting and is unable to alter the signal or the time of transmission. The VMS unit is passive and automatic, requiring no reporting effort of the vessel operator.

Affected Public: Business or other for-profit.

Frequency: On occasion.

Respondent's Obligation: Required to obtain or retain benefits.

OMB Desk Officer: David Rostker, (202) 395-3897.

Copies of the above information collection proposal can be obtained by calling or writing Diana Hynek, Departmental Paperwork Clearance Officer, (202) 482-0266, Department of Commerce, Room 6625, 14th and Constitution Avenue, NW., Washington, DC 20230 (or via the Internet at dHynek@doc.gov).

Written comments and recommendations for the proposed information collection should be sent within 30 days of publication of this notice to David Rostker, OMB Desk Officer, fax number (202) 395-7285, or David_Rostker@omb.eop.gov.

Dated: August 1, 2006.
Gwellnar Banks,
Management Analyst, Office of the Chief Information Officer.

[FR Doc. E6-12708 Filed 8-4-06; 8:45 am]

BILLING CODE 3510-22-P